DEPARTMENT OF JUSTICE

Notice of Lodging of Proposed Consent Decree Under the Clean Air Act

On September 27, 2024, the Department of Justice lodged a proposed Consent Decree with the United States District Court for the Northern District of Ohio in the lawsuit entitled United States v. Lima Refining Company, Civil Action No. 3:24-cv-01659.

The Complaint alleges that Defendant violated the National Air Emission Standards for Hazardous Air Pollutants for benzene waste operations, the New Source Performance Standards for VOC emissions from refinery wastewater systems, the general requirement to use good air pollution control practices, and its Title V permit, at its refinery in Lima, Ohio. The proposed Consent Decree resolves these claims and requires the Defendant to perform injunctive relief, including the installation of a flash column. Defendant will also conduct enhanced monitoring and repairs and install six air monitoring stations in the surrounding community and post the data publicly. Defendant will pay a civil penalty of $19 million.

The publication of this notice opens a period for public comment on the Consent Decree. Comments should be addressed to the Assistant Attorney General, Environment and Natural Resources Division, and should refer to United States v. Lima Refining Company, D.J. Ref. No. 90-5-2-1-12782. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. If you require assistance accessing the Consent Decree you may request assistance by email or by mail to the addresses provided above for submitting comments.

Susan M. Akers,
Deputy Section Chief, Environmental Enforcement Section, Environment and Natural Resources Division.

[FR Doc. 2024-22988 Filed 10-3-24; 8:45 am]

BILLING CODE 4410-15-P